INTERNATIONAL TRADE COMMISSION

[Investigation Nos. 731-TA-394-A & 399-A (Second Review) (Fourth Remand)]

Ball Bearings From Japan and the United Kingdom

AGENCY: United States International Trade Commission.

ACTION: Notice of remand proceedings.

SUMMARY: The U.S. International Trade Commission (“Commission”) hereby gives notice of its fourth remand proceeding with respect to its affirmative determination in the five-year review of the antidumping duty order on ball bearings from Japan. For further information concerning the conduct of this proceeding and rules of general application, consult the Commission's Rules of Practice and Procedure, part 201, subparts A through E (19 CFR part 201), and part 207, subpart A (19 CFR part 207).

DATES: Effective Date: December 30, 2010.

FOR FURTHER INFORMATION CONTACT: James McClure, Office of Investigations, telephone 202-205-3191, or David Goldfine, Office of General Counsel, telephone 202-708-5452, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov).

SUPPLEMENTARY INFORMATION:

Background.—On December 9, 2010, the Court of International Trade (per Judge Barzilay) issued an opinion in NSK Corp. et al. v. United States, Slip Op. 10-133 (“NSK V”). In that opinion, the Court has again affirmed-in-part and remanded-in-part the Commission's determinations in Certain Bearings and Parts Thereof from Japan and the United Kingdom, Inv. Nos. 731-TA-394-A & 399-A (Second Review) (Third Remand), USITC Pub. 4194 (Aug. 2010). In NSK V, the Court affirmed the Commission's determination not to cumulate subject imports from the United Kingdom because they would not likely have a discernible adverse impact. NSK V at 4-6. The Court also affirmed the Commission's negative determination with respect to the United Kingdom. Id. at 6.

As to the remaining issues with respect to the cumulated subject imports from France, Germany, Italy, and Japan, the Court again affirmed the Commission's findings that the cumulated imports would likely have significant volume and price effects. Id. at 7. Nevertheless, with respect to the likely impact by cumulated subject imports, the Court again remanded the issue to the Commission. Id. at 8-12.

Under the remand schedule ordered by the Court, the Commission was required to file a status report with the Court on December 20, 2010, advising the Court as to whether it would be re-opening the record on the likely impact issue. The Court also directed the parties to submit a proposed joint scheduling order for the fourth remand proceedings.

On December 20, 2010, the Commission filed the requested status report with the Court, advising the Court that it will not be re-opening the record. On December 20, 2010, the parties also submitted a proposed joint scheduling order. On December 22, 2010, the Court approved the proposed scheduling order and directed the Commission to file its fourth remand determination by March 1, 2011. Under the remand schedule ordered by the Court, Plaintiffs, Plaintiff-Intervenors, and Defendant-Intervenors may file their comments with the Court regarding the Commission's fourth remand determination by April 1, 2011.

Participation in the proceeding.—Only those persons who were interested parties to the reviews (i.e., persons listed on the Commission Secretary's service list) and parties to the appeal may participate in the remand proceeding. Such persons need not make any additional filings with the Commission to participate in the remand proceeding, unless they are adding new individuals to the list of persons entitled to receive business proprietary information under administrative protective order. Business proprietary information (“BPI”) referred to during the remand proceeding will be governed, as appropriate, by the administrative protective order issued in the reviews.

Written submissions.—The Commission is not re-opening the record in this remand proceeding. The Commission will permit the parties to file comments pertaining to the specific issues that are the subject of the Court's remand instructions. Comments should be limited to no more than fifteen (15) double-spaced and single-sided pages of textual material. No appendices or other attachments are allowed. The parties may not themselves submit any new factual information in their comments and may not address any issue other than those that are the subject of the Court's remand instructions. Any such comments must be filed with the Commission no later than January 14, 2011.

All written submissions must conform with the provisions of section 201.8 of the Commission's rules; any submissions that contain BPI must also conform with the requirements of sections 201.6, 207.3, and 207.7 of the Commission's rules. The Commission's rules do not authorize filing of submissions with the Secretary by facsimile or electronic means, except to the extent permitted by section 201.8 of the Commission's rules, as amended, 67 Fed. Reg. 68036 (Nov. 8, 2002).

In accordance with sections 201.16(c) and 207.3 of the Commission's rules, each document filed by a party to the investigation must be served on all other parties to the investigation (as identified by either the public or BPI service list), and a certificate of service must be timely filed. The Secretary will not accept a document for filing without a certificate of service.

Parties are also advised to consult with the Commission's Rules of Practice and Procedure, part 201, subparts A through E (19 CFR part 201), and part 207, subpart A (19 CFR part 207) for provisions of general applicability concerning written submissions to the Commission.

By order of the Commission.
Issued: December 30, 2010.
Marilyn R. Abbott,
Secretary to the Commission.

[FR Doc. 2010-33355 Filed 1-5-11; 8:45 am]

BILLING CODE 7020-02-P